DEPARTMENT OF HOUSING AND URBAN DEVELOPMENT

[Docket No. FR-7092-N-42]

Privacy Act of 1974; System of Records

AGENCY: Office of Public and Indian Housing, HUD.

ACTION: Notice of a modified system of records.

SUMMARY: The Enterprise Income Verification System (EIV) is used to verify program participants/tenants, reported income, identify unreported income sources and/or amounts and identify substantial annual income discrepancies amongst households that receive HUD provided rental assistance through programs administered by HUD's Office of Public and Indian Housing and Office of Housing Multifamily program. Under the Privacy Act of 1974, the Department of Housing and Urban Development, the Office of Public and Indian Housing proposes to update the system of records titled EIV. The EIV System has been modified replacing the Income Discrepancy Report with the Income Validation Tool built on the MicroStrategy platform.

DATES: Comments will be accepted on or before January 27, 2025. This proposed action will be effective on the date following the end of the comment period unless comments are received which result in a contrary determination.

ADDRESSES: You may submit comments, identified by docket number or by one of the following methods:

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to https://ww.regulations.gov. including any personal information provided.

Docket: For access to the docket to read background documents or comments received go to https://www.regulations.gov.

FOR FURTHER INFORMATION CONTACT: LaDonne White; 451 Seventh Street SW, Room 10139; Washington, DC 20410-0001; telephone number (202) 708-3054 (this is not a toll-free number. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The EIV System is used to verify program participants/tenants, reported income, identify unreported income sources and/or amounts and identify substantial annual income discrepancies amongst households that receive HUD provided rental assistance through programs administered by HUD's Office of Public and Indian Housing and Office of Housing's Multifamily Housing Programs. The EIV System has been modified replacing the Income Discrepancy Report with the Income Validation Tool built on the MicroStrategy platform. This change was necessary to address OIG Audit #2014-FO-0004, Compliance with the Improper Payments and Elimination Recovery Act of 2010, findings and recommendations related to improper payments and the identification of tenant unreported and/or underreported income during mandatory reexaminations of family composition and income. The intended effect of this change is to eliminate false positives within EIV's Income Discrepancy Report which was estimated at approximately 50% of all income discrepancies, and to allow HUD to make better decisions for determination of rental subsidy and the degree of improper payments in HUD rental subsidy programs. Further, the IVT provides projections of discrepant income enabling users to analyze in detail, income, wage, and social security benefit information for a specific household and/or household member(s), detailing all captured income sources and dates of employment.

SYSTEM NAME AND NUMBER:

Enterprise Income Verification (EIV), HUD/PIH-05.

SECURITY CLASSIFICATION:

Unclassified.

SYSTEM LOCATION:

Records are maintained at the NASA Stennis Space Center, John C. Stennis Space Center, MS 39529-0001.

SYSTEM MANAGER(S):

Shalene Domingo, System Owner, Office of Public and Indian Housing, 550 12th Street SW, First Floor, Washington, DC 20410-10001.

AUTHORITY FOR MAINTENANCE OF THE SYSTEM:

Section 453(j) of the Social Security Act as amended, now codified at 42 U.S.C. 653(j), section 904 of the Stewart B. McKinney Homeless Assistance Amendments Act of 1988, as amended, now codified at 42 U.S.C. 3544, The Omnibus Budget Reconciliation Act of 1993 (Budget Reconciliation Act) 6103(l)(7) of title 26 of the United States Code (Internal Revenue Code).

PURPOSE(S) OF THE SYSTEM:

The EIV System is a web-based Upfront income verification System that allows authorized Public Housing Agencies, Multifamily Housing Owners/Agents, and Contract Administrators to verify program participants/tenants, reported income, identify unreported income sources and/or amounts and identify substantial annual income discrepancies amongst households that receive HUD provided rental assistance through programs administered by HUD's Office of Public and Indian Housing and Office of Housing's Multifamily Housing Programs.

CATEGORIES OF INDIVIDUALS COVERED BY THE SYSTEM:

Families participating in housing programs administered by HUD's Office of Public and Indian Housing (current and former participants), including Tribally Designated Housing Entities, participating in the public housing program, section 8 HCV program, Disaster Housing Assistance Programs and families currently participating in the Office of Housing, Multifamily Housing Division programs.

CATEGORIES OF RECORDS IN THE SYSTEM:

Records consist of unit address (subsidized property address), family composition (names, dates of birth and SSNs of Household Members), financial data such as tenant-reported income to PHAs, O/As, and C/As, and wage, unemployment compensation, SS and SSI benefit data obtained from Department of Health and Human Services (HHS) and Social Security Administration (SSA).

RECORD SOURCE CATEGORIES:

Inventory Management System/Public Housing Information Center, Tenant Rental Assistance Certification System (IMS/PIC, TRACS), Social Security Administration and the Department of Health and Human Services.

ROUTINE USES OF RECORDS MAINTAINED IN THE SYSTEM, INCLUDING CATEGORIES OF USERS AND PURPOSES OF SUCH USES:

(A) To a congressional office from the record of an individual, in response to an inquiry from the congressional office made at the request of that individual.

(B) To appropriate Federal, State, and local governments, or persons, pursuant to a showing of compelling circumstances affecting the health or safety or vital interest of an individual or data subject, including assisting such agencies or organizations in preventing the exposure to or transmission of a communicable or quarantinable disease, or to combat other significant public health threats, if upon such disclosure appropriate notice was transmitted to the last known address of such individual to identify the health threat or risk.

(C) To Federal, State, and local agencies, their employees, and agents for the purpose of conducting computer matching programs as regulated by the Privacy Act of 1974, as amended (5 U.S.C. 552a).

(D) To Federal agencies, non-Federal entities, their employees, and agents (including contractors, their agents or employees; employees or contractors of the agents or designated agents); or contractors, their employees or agents with whom HUD has a contract, service agreement, grant, cooperative agreement, or computer matching agreement for the purpose of: (1) Detection, prevention, and recovery of improper payments; (2) detection and prevention of fraud, waste, and abuse in major Federal programs administered by a Federal agency or non-Federal entity; (3) detection of fraud, waste, and abuse by individuals in their operations and programs, but only to the extent that the information shared is necessary and relevant to verify pre-award and prepayment requirements prior to the release of Federal funds, prevent and recover improper payments for services rendered under programs of HUD or of those Federal agencies and non-Federal entities to which HUD provides information under this routine use.

(E) To contractors, grantees, experts, consultants, students, and others performing or working on a contract, service, grant, cooperative agreement, or other assignment for the Federal Government when necessary to accomplish an agency function related to this system of records. Also, to a recipient who has provided the agency with advance, adequate written assurance that the record provided from the system of records will be used solely for statistical research or reporting purposes. Records under this condition will be disclosed or transferred in a form that does not identify an individual.

(F) To contractors, grantees, experts, consultants and their agents, or others performing or working under a contract, service, grant, or cooperative agreement with HUD, when necessary to accomplish an agency function related to a system of records. Disclosure requirements are limited to only those data elements considered relevant to accomplishing an agency function. Individuals provided information under these routine use conditions are subject to Privacy Act requirements and disclosure limitations imposed on the Department.

(G) To contractors, experts and consultants with whom HUD has a contract, service agreement, or other assignment of the Department, when necessary to utilize relevant data for the purpose of testing new technology and systems designed to enhance program operations and performance.

(H) To appropriate agencies, entities, and persons when (1) HUD suspects or has confirmed that there has been a breach of the system of records, (2) HUD has determined that as a result of the suspected or confirmed breach there is a risk of harm to individuals, [the agency] (including its information systems, programs, and operations), the Federal Government, or national security; and (3) the disclosure made to such agencies, entities, and persons is reasonably necessary to assist in connection with the HUD's efforts to respond to the suspected or confirmed breach or to prevent, minimize, or remedy such harm. To another Federal agency or Federal entity, when HUD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(I) To appropriate Federal, State, local, Tribal, or governmental agencies or multilateral governmental organizations responsible for investigating or prosecuting the violations of, or for enforcing or implementing, a statute, rule, regulation, order, or license, where HUD determines that the information would assist in the enforcement of civil or criminal laws. To third parties during a law enforcement investigation, to the extent necessary to obtain information pertinent to the investigation, provided the disclosure of such information is appropriate to the proper performance of the official duties of the officer making the disclosure.

(J) To a court, magistrate, administrative tribunal, or arbitrator while presenting evidence, including disclosures to opposing counsel or witnesses during civil discovery, litigation, mediation, or settlement negotiations; or in connection with criminal law proceedings; or in response to a subpoena or to a prosecution request when such records to be released are specifically approved by a court provided order.

(K) To appropriate Federal, State, local, Tribal, or governmental agencies or multilateral governmental organizations responsible for investigating or prosecuting the violations of, or for enforcing or implementing, a statute, rule, regulation, order, or license, where HUD determines that the information would assist in the enforcement of civil or criminal laws.

(L) To third parties during a law enforcement investigation to the extent necessary to obtain information pertinent to the investigation, provided disclosure is appropriate to the proper performance of the official duties of the officer making the disclosure.

(M) To another agency or to an instrumentality of any governmental jurisdiction within or under the control of the United States for a civil or criminal law enforcement activity if the activity is authorized by law, and if the head of the agency or instrumentality has made a written request to the agency that maintains the record, specifying the portion desired and the law enforcement activity for which the record is sought.

(N) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

POLICIES AND PRACTICES FOR STORAGE OF RECORDS:

Records are maintained in paper and electronic storage media.

POLICIES AND PRACTICES FOR RETRIEVAL OF RECORDS:

Records are retrieved by Name, Date of Birth, and/or SSN.

POLICIES AND PRACTICES FOR RETENTION AND DISPOSAL OF RECORDS:

Destroy one year after System of Records is placed on inactive list.

ADMINISTRATIVE, TECHNICAL, AND PHYSICAL SAFEGUARDS:

EIV Physical controls include, key cards, security guards and Identification badges. HUD will secure downloaded reports on HUD secure SharePoint site. Public Housing Agencies, Multifamily Housing Owners/Agents, and Contract Administrators must secure downloaded data to a secure/locked space and/or cabinet. Computer terminals are secured in controlled areas which are locked when unoccupied. Access to automated records is limited to authorized personnel who must use a password to gain access to the system. Administrative controls include methods to ensure only authorized personnel access to PII. Each EIV user must first have access to HUD' Web Access Secure Systems. Each EIV User must be re-certified to use the EIV System every April and October of the calendar year. EIV Technical controls include, Encryption of Data at Rest, Firewall, Role-based Access Controls, VPN, Encryption of Data in Transit, User ID and Password, and PIV Card.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

87 FR 50635, August 17, 2022.

LaDonne White,
Chief Privacy Officer, Office of Administration.

[FR Doc. 2024-30645 Filed 12-23-24; 8:45 am]

BILLING CODE 4210-67-P